DEPARTMENT OF COMMERCE

National Oceanic and Atmospheric Administration

50 CFR Part 300

[I.D. 112000A]

Notification of U.S. Fish Quotas and an Effort Allocation in the Northwest Atlantic Fisheries Organization (NAFO) Regulatory Area

AGENCY: National Marine Fisheries Service (NMFS), National Oceanic and Atmospheric Administration (NOAA), Commerce.

ACTION: Notification of U.S. fish quotas and an effort allocation.

SUMMARY: NMFS announces that fish quotas and an effort allocation are available for harvest by U.S. fishermen in the NAFO Regulatory Area. This action is necessary to make available to U.S. fishermen a fishing privilege on an equitable basis.

DATES: All fish quotas and the effort allocation are effective January 1, 2001, through December 31, 2001. Expressions of interest regarding U.S. fish quota allocations will be accepted throughout 2001. Expressions of interest regarding the U.S. effort allocation will be accepted through January 2, 2001.

ADDRESSES: Expressions of interest regarding U.S. fish quota allocations should be made in writing to the NMFS Northeast Regional Administrator at One Blackburn Drive, Gloucester, Massachusetts 01930 (phone: 978-281-9226, fax: 978-281-9135).

Expressions of interest regarding the U.S. effort allocation should be made in writing to Patrick E. Moran in the NMFS Office of Sustainable Fisheries, at 1315 East-West Highway, Silver Spring, Maryland 20910 (phone: 301-713-2276, fax: 301-713-2313).

Information relating to NAFO fish quotas, NAFO Conservation and Enforcement Measures, and the High Seas Fishing Compliance Act (HSFCA) Permit is available from Jennifer Anderson at the NMFS Northeast Regional Office at One Blackburn Drive, Gloucester, Massachusetts 01930 (phone: 978-281-9226, fax: 978-281-9135) and from NAFO on the World Wide Web at <http://www.nafo.ca>.

FOR FURTHER INFORMATION CONTACT: Patrick E. Moran, 301-713-2276.

SUPPLEMENTARY INFORMATION:

Background

NAFO has established and maintains conservation measures in its Regulatory Area that include one effort limitation fishery as well as fisheries with total allowable catches (TACs) and member nation quota allocations. The principal species managed are cod, flounder, redfish, American plaice, halibut, capelin, shrimp, and squid. At the 2000 NAFO Annual Meeting, the United States received fish quota allocations for three NAFO stocks and an effort allocation for one NAFO stock to be fished during 2001. The species, location, and allocation (in metric tons or effort) of these U.S. fishing opportunities are as follows:

NAFO Allocations
(1) Redfish | NAFO Division 3M | 69 mt.
(2) Squid | NAFO Subareas 3 & 4 | 453 mt.
(3) Shrimp | NAFO Division 3L | 67 mt.
(4) Shrimp | NAFO Division 3M | 1 vessel/100 days.

U.S. Fish Quota Allocations

All U.S. fish quota allocations in NAFO are available to be taken by U.S. vessels in possession of a valid HSFCA permit, which is available from the NMFS Northeast Regional Office (see ADDRESSES). Expressions of interest by U.S. vessels in harvesting U.S. fish quota allocations in the NAFO Regulatory Area should be directed in writing to the NMFS Northeast Regional Administrator (see DATES and ADDRESSES). Letters of interest from U.S. vessel owners should include the name, registration and home port of the applicant vessel as required by NAFO in advance of fishing operations. In addition, any available information on intended target species and time of fishing operations should be included. If necessary to ensure equitable access by U.S. vessel owners, NMFS may need to promulgate regulations designed to choose one or more U.S. applicants from among expressions of interest.

Note that vessels issued valid HSFCA permits under 50 CFR part 300 are exempt from multispecies permit, mesh size, effort-control, and possession limit restrictions, specified in §§ 648.4, 648.80, 648.82 and 648.86, respectively, while transiting the U.S. exclusive economic zone (EEZ) with multispecies on board the vessel or landing multispecies in U.S. ports that were caught while fishing in the NAFO Regulatory Area, provided:

(1) The vessel operator has a letter of authorization on board the vessel issued by the Regional Administrator;

(2) For the duration of the trip, the vessel fishes exclusively in the NAFO Regulatory Area and does not harvest fish in, or possess fish harvested in or from, the U.S. EEZ;

(3) When transiting the U.S. EEZ, all gear is properly stowed in accordance with one of the applicable methods specified in § 648.81(e); and

(4) The vessel operator complies with the HSFCA permit and all NAFO conservation and enforcement measures while fishing in the NAFO Regulatory Area.

Please note that NAFO vessel reporting requirements must be made through the U.S. Government. More information on these requirements can be found here.

U.S. Effort Allocation

Expression of interest in harvesting the U.S. portion of the 2001 NAFO 3M shrimp effort allocation will be accepted from owners of U.S. vessels in possession of a valid HSFCA permit and U.S. fishing interests intending to make use of vessels of other NAFO Parties under chartering arrangements. U.S. vessels will be given first consideration. All expressions of interest should be directed in writing to Patrick E. Moran in the NMFS Office of Sustainable Fisheries (see DATES and ADDRESSES).

Letters of interest from U.S. vessel owners should include the name, registration and home port of the applicant vessel as required by NAFO in advance of fishing operations. In the event that multiple expressions of interest are made by U.S. vessel owners, NMFS may need to promulgate regulations designed to choose one U.S. applicant from among expressions of interest.

In the event that no adequate expressions of interest are made on behalf of U.S. vessels, expressions of interest will be considered from U.S. fishing interests intending to make use of vessels of other NAFO Parties under chartering arrangements to fish the 2001 U.S. effort allocation for 3M shrimp. Under NAFO rules in effect for 2001, a vessel registered to another NAFO Contracting Party may be chartered to fish the U.S. allocation provided that written consent for the charter is obtained from the vessel’s flag state and the U.S. effort allocation is transferred to that flag state. Such a transfer must be adopted by NAFO Parties through a mail voting process.

Expressions of interest from U.S. fishing interests intending to make use of vessels from another NAFO Party under chartering arrangements should include information required by NAFO regarding the proposed chartering operation, including: the name, registration and flag of the intended vessel; a copy of the charter; the fishing opportunities granted; a letter of consent from the vessel’s flag State; the date from which the vessel is authorized to commence fishing on these opportunities; and the duration of the charter. More details on NAFO requirements for chartering operations are available from NMFS (see ADDRESSES). In addition, expressions of interest for chartering operations should be accompanied by a detailed description of anticipated benefits to the United States. Such benefits might include (but are not limited to): the use of U.S. processing facilities/personnel; the use of U.S. fishing personnel; other specific positive effects on U.S. employment; evidence that fishing by the chartered vessel would actually take place; and documentation of the physical characteristics and economics of the fishery for future use by the U.S. fishing industry.

In the event that multiple expressions of interest are made by U.S. fishing interests proposing the use of chartering operations, the information submitted regarding benefits to the United States will be used in making a selection. In the event that applications by U.S. fishing interests proposing the use of chartering operations for 3M shrimp are considered, all applicants will be made aware of the allocation decision as soon as possible. Once the allocation has been awarded for use in a chartering operation, NMFS will immediately take appropriate steps to transfer the U.S. 3M shrimp effort allocation to the vessel’s flag State (pending approval by NAFO).

All individuals/companies submitting expressions of interest to NMFS will be contacted after the end of the application period and apprised of the status of their proposal. Additionally, all applicants will be contacted once the allocation has been awarded. Please note that, once the U.S. portion of the 2001 NAFO 3M shrimp allocation is awarded to a U.S. vessel or a specified chartering operation, it may not be transferred without the express, written consent of NMFS.

NAFO Conservation and Management Measures

Relevant NAFO Conservation and Enforcement Measures include, but are not limited to, maintenance of a fishing logbook with NAFO-designated entries; adherence to NAFO hail system requirements; presence of an on-board observer; deployment of a functioning, autonomous vessel monitoring system; and adherence to all relevant minimum size, gear, bycatch, and other requirements. Further details regarding these requirements are available from the NMFS Northeast Regional Office, and can also be found in the current NAFO Conservation and Enforcement Measures on the internet (see ADDRESSES).

Dated: November 24, 2000.
Bruce C. Morehead,
Acting Director, Office of Sustainable Fisheries, National Marine Fisheries Service.

[FR Doc. 00-30514 Filed 11-29-00; 8:45 am]

BILLING CODE 3510-22-S